DEPARTMENT OF COMMERCE

International Trade Administration

[A-201-836]

Light-Walled Rectangular Pipe and Tube From Mexico: Extension of Time Limit for Preliminary Results of Antidumping Duty Administrative Review

AGENCY: Import Administration, International Trade Administration, Department of Commerce

DATES: Effective Date: May 10, 2012.

FOR FURTHER INFORMATION CONTACT: Dena Crossland or Edythe Artman, AD/CVD Operations, Office 7, Import Administration, International Trade Administration, U.S. Department of Commerce, 14th Street and Constitution Avenue NW., Washington, DC 20230; telephone: (202) 482-3362 or (202) 482-3931, respectively.

SUPPLEMENTARY INFORMATION:

Background

On October 3, 2011, the Department of Commerce (the Department) published in the Federal Register the initiation of the administrative review of the antidumping duty order on light-walled rectangular pipe and tube from Mexico, covering the period of August 1, 2010, to July 31, 2011. See Initiation of Antidumping and Countervailing Duty Administrative Reviews and Requests for Revocations in Part, 76 FR 61076 (October 3, 2011). The current deadline for the preliminary results of this review is May 2, 2012.

Statutory Time Limits

In antidumping duty administrative reviews, section 751(a)(3)(A) of the Tariff Act of 1930, as amended (the Act), requires the Department to complete the preliminary results of an administrative review within 245 days after the last day of the anniversary month of an order for which a review is requested. However, if it is not practicable to complete the review within this time period, section 751(a)(3)(A) of the Act allows the Department to extend the 245-day time period for the preliminary results up to 365 days after the last day of the anniversary month.

Extension of Time Limit for Preliminary Results of Review

The Department finds it is not practicable to complete the preliminary results of these reviews within the original time frame because the Department requires additional time to gather additional information and analyze the information submitted on the record by both mandatory respondents, Regiomontana de Perfiles S.A. de C.V. (Regiopytsa) and Maquilacero S.A. de C.V. (Maquilacero). Therefore, the Department is fully extending the time limit for completion of the preliminary results of this administrative review until no later than August 30, 2012, which is 365 days from the last day of the anniversary month of this order. We intend to issue the final results no later than 120 days after publication of the preliminary results notice.

This extension is issued and published in accordance with sections 751(a)(3)(A) and 777(i) of the Act.

Dated: April 27, 2012.
Christian Marsh,
Deputy Assistant Secretary for Antidumping and Countervailing Duty Operations.

[FR Doc. 2012-11343 Filed 5-9-12; 8:45 am]

BILLING CODE 3510-DS-P